DEPARTMENT OF THE INTERIOR

Bureau of Land Management

[LLAZP02000.L17110000.PM0000 LXTRJBHT0000]

Notice of Temporary Closure on Public Lands in Maricopa County, AZ

AGENCY: Bureau of Land Management, Interior.

ACTION: Notice of temporary closure.

SUMMARY: Notice is hereby given that a closure to all public use and entry is in effect on certain public lands administered by the Lower Sonoran Field Office, to provide for public health and safety during the construction of the Estrella-Wayside Recreation Area.

DATES: The temporary closure will be in effect for two years from 12:01 a.m., August 17, 2022, or until the completion of construction, whichever is sooner.

ADDRESSES: The BLM will post closure signs at main entry points to this area. This closure order will be posted in the Lower Sonoran Field Office. Maps of the affected area and other documents associated with this closure are available at the Lower Sonoran Field Office, 21605 North 7th Avenue, Phoenix, AZ 85027 and online at https://eplanning.blm.gov/eplanning-ui/project/2003950/510.

FOR FURTHER INFORMATION CONTACT: Katie White Bull, Sonoran Desert National Monument Manager, Lower Sonoran Field Office, 21605 North 7th Avenue, Phoenix, AZ 85027, by phone at (623) 580-5500, or by email at kwhitebull@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This closure affects public lands in the Estrella-Wayside Recreation Area, within the Juan Bautista de Anza Recreation Management Zone of the Sonoran Desert National Monument in Maricopa County, Arizona. The legal description of the affected public lands is:

Estrella-Wayside Recreation Area

Gila & Salt River Meridian, Arizona

T. 4 S., R. 2 W.,

Sec. 26, W½SW¼,

Sec. 27, Lots 1 and 8, NE¼SE¼,

Sec. 34, SW¼, S½SW¼,

Sec. 35, NW¼, E½SW¼, SW¼SW¼;

T. 5 S., R. 2 W.,

Sec. 2, Lots 3 and 4, S½NW¼, SW¼,

Sec. 3, SE¼SW¼, S½SE¼,

Sec. 10, N½NE¼, NE¼NW¼,

Sec. 11, SW¼NE¼, NW¼, N½SE¼,

Sec. 12, W½SW¼, SE¼SW¼.

The area described contains 1,655.09 acres.

The closure is necessary to protect public health and address safety risks during the construction of Estrella-Wayside Recreation Area facilities and infrastructure. The construction of the Estrella-Wayside Recreation Area is in conformance with the Sonoran Desert National Monument Record of Decision and Approved Resource Management Plan (2012) and implements components of the Juan Bautista de Anza Recreation Management Zone, Recreation Plan Final Environmental Assessment (DOI-BLM-AZ-P040-2015-0002-EA; https://eplanning.blm.gov/eplanning-ui/project/44347/510) and Decision Record. A Determination of NEPA Adequacy (DNA) for implementation of the Anza RMZ Recreation area was signed on December 9, 2020 (DOI-BLM-AZ-P040-2021-0001-DNA; https://eplanning.blm.gov/eplanning-ui/project/2003950/510). Under the authority of Section 303(a) of the Federal Land Policy and Management Act of 1976 (43 U.S.C. 1733(a)), 43 CFR 8360.0-7, and 43 CFR 8364.1, the BLM will enforce the following closure within the Estrella-Wayside Recreation Area.

Closure: The Estrella-Wayside Recreation Area is temporarily closed to all public use and entry.

Exemptions: The temporary closures do not apply to Federal, State, and local officers and employees in the performance of their official duties; members of organized rescue or firefighting forces in the performance of their official duties; and persons with written authorization from the BLM.

Enforcement: Any person who violates the temporary closures may be tried before a United States magistrate and fined in accordance with 18 U.S.C. 3571, imprisoned no more than 12 months under 43 U.S.C. 1733(a) and 43 CFR 8360.0-7, or both. In accordance with 43 CFR 8365.1-7, State or local officials may also impose penalties for violations of Arizona law.

Effect of Closure: The entire area encompassed by the legal description as described in this notice and in the time period as described in this notice are temporarily closed to all public use, including pedestrians and vehicles, unless specifically excepted as described above.

Authority: 43 CFR 8364.1.

Katie White Bull,
Acting Lower Sonoran Field Manager.

[FR Doc. 2022-15281 Filed 7-15-22; 8:45 am]

BILLING CODE 4310-32-P